SUSQUEHANNA RIVER BASIN COMMISSION

Commission Meeting

AGENCY: Susquehanna River Basin Commission.

ACTION: Notice.

SUMMARY: The Susquehanna River Basin Commission will hold its regular business meeting on December 8, 2017, in Annapolis, Maryland. Details concerning the matters to be addressed at the business meeting are contained in the SUPPLEMENTARY INFORMATION section of this notice.

DATES: The meeting will be held on Friday, December 8, 2017, at 9 a.m.

ADDRESSES: The meeting will be held at the Loews Annapolis Hotel, Windmill Point Room (second floor of Powerhouse Building), 126 West St., Annapolis, MD 21401.

FOR FURTHER INFORMATION CONTACT: Jason E. Oyler, General Counsel, 717-238-0423, ext. 1312.

SUPPLEMENTARY INFORMATION: The business meeting will include actions or presentations on the following items: (1) Informational presentation of interest to the Lower Susquehanna Subbasin area; (2) resolution concerning FY2019 federal funding of the Groundwater and Streamflow Information Program; (3) resolution adopting amendments to Commission's By-laws; (4) ratification/approval of contracts/grants; (5) rulemaking action to codify in the Commission's regulations and strengthen the Commission's Access to Records Policy providing rules and procedures for the public to request and receive the Commission's public records; (6) report on delegated settlements; and (7) Regulatory Program projects.

The Regulatory Program projects and the final rulemaking were the subject of a public hearing conducted by the Commission on November 2, 2017, notice for which was published in 82 FR 46343, October 4, 2017, and 82 FR 47407, October 12, 2017, respectively.

The public is invited to attend the Commission's business meeting. Comments on the Regulatory Program projects and the final rulemaking were subject to a deadline of November 13, 2017. Written comments pertaining to other items on the agenda at the business meeting may be mailed to the Susquehanna River Basin Commission, 4423 North Front Street, Harrisburg, Pennsylvania 17110-1788, or submitted electronically through http://www.srbc.net/pubinfo/publicparticipation.htm. Such comments are due to the Commission on or before December 1, 2017. Comments will not be accepted at the business meeting noticed herein.

Authority: Pub. L. 91-575, 84 Stat. 1509 et seq., 18 CFR parts 806, 807, and 808.

Dated: November 2, 2017.
Stephanie L. Richardson,
Secretary to the Commission.

[FR Doc. 2017-24240 Filed 11-7-17; 8:45 am]

BILLING CODE 7040-01-P